DEPARTMENT OF EDUCATION

[Docket No.: ED-2023-SCC-0160]

Agency Information Collection Activities; Submission to the Office of Management and Budget for Review and Approval; Comment Request; Study of District and School Uses of Federal Education Funds

AGENCY: Institute of Education Sciences (IES), Department of Education (ED).

ACTION: Notice.

SUMMARY: In accordance with the Paperwork Reduction Act (PRA) of 1995, the Department is proposing an extension without change of a currently approved information collection request (ICR).

DATES: Interested persons are invited to submit comments on or before January 11, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Claire Allen-Pratt, 202-987-1090.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Study of District and School Uses of Federal Education Funds.

OMB Control Number: 1850-0951.

Type of Review: An extension without change of a currently approved ICR.

Respondents/Affected Public: State, Local, and Tribal Governments.

Total Estimated Number of Annual Responses: 250.

Total Estimated Number of Annual Burden Hours: 1,630.

Abstract: Federal funds account for less than 10 percent of K-12 education spending nationally but can play an important role, particularly in communities that are lower-income or have lower-performing schools. Although each federal education program has unique goals and provisions, they often allow funds to be used for similar purposes and services or overlapping populations. Congress provided state and local education agencies greater flexibility in their use of federal funds through the 2015 reauthorization of the Elementary and Secondary Education Act (ESEA). As the COVID-19 pandemic began to disrupt schools in 2020, Congress also created new programs to provide funding and flexibilities for states and districts to respond to the emergency. Because policymakers remain interested in how federal dollars are spent, this study will examine the distribution and use of pandemic relief funds and explore the possibility of examining those issues for five “core” federal education programs that represent the vast share of the Department's K-12 grant making: Part A of Titles I, II, III, and IV of ESEA, and Title I, Part B of the Individuals with Disabilities Education Act (IDEA).

Dated: December 7, 2023.
Juliana Pearson,
PRA Coordinator, Strategic Collections and Clearance, Governance and Strategy Division, Office of Chief Data Officer, Office of Planning, Evaluation and Policy Development.

[FR Doc. 2023-27209 Filed 12-11-23; 8:45 am]

BILLING CODE 4000-01-P